DEPARTMENT OF LABOR

Office of the Secretary

Submission for OMB Review: Comment Request

February 28, 2005.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on (202) 693-4129 (this is not a toll-free number) or e-mail: king.darrin@dol.gov.

Comments should be sent to Office of Information and Regulatory Affairs, Attn: OMB Desk Officer for the Department of Labor, Office of Management and Budget, Room 10235, Washington, DC 20503, (202) 395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Office of the Solicitor.

Type of Review: Extension of currently approved collection.

Title: Equal Access to Justice Act.

OMB Number: 1225-0013.

Frequency: On occasion.

Affected Public: Business or other for-profit; not-for-profit institutions; individuals or households; State, local, or tribal government; and Federal government.

Number of Respondents: 10.

Estimated Annual Responses: 10.

Average Response Time: 5 hours.

Total Annual Burden Hours: 50.

Total Annualized capital/startup costs: $0.

Total Annual Costs (operating/maintaining systems or purchasing services): $20.00.

Description: The Equal Access to Justice Act (EAJA) provides for the award of fees and expenses, under certain circumstances, to parties involved in adversary adjudications with the United States. 5 U.S.C. 504. The statute, at 5 U.S.C. 504(a)(2), requires that a party seeking an award of fees and expenses in a covered proceeding must submit to the agency “an application which shows that the party is the prevailing party and is eligible to receive an award” under EAJA.

The Department of Labor's regulations at 29 CFR part 16 implement EAJA, and 29 CFR 16.201 sets forth the required elements of an EAJA award application. Under this regulation, EAJA award applications must include information regarding the following: The identity of the applicant, the proceeding for which an award is sought, the fact that the applicant has prevailed, the agency position alleged not to be substantially justified, the number of employees of the applicant at the time the proceeding was instituted (if the applicant is other than an individual), the type and purpose of the applicant's organization or business (if applicable), net worth and/or other designated information, and amounts requested. Certain certifications, affidavits and other documents also are required. See 29 CFR 16.201-16.204 for a complete description of information required from applicants.

Ira L. Mills,
Departmental Clearance Officer.

[FR Doc. 05-4210 Filed 3-3-05; 8:45 am]

BILLING CODE 4510-23-P